DEPARTMENT OF TRANSPORTATION

Surface Transportation Board

[STB Docket No. AB-873X, AB-55 (Sub-No. 652X), AB-565 (Sub-No. 17X)]

New York and Eastern Railway, LLC—Discontinuance Exemption—in Poughkeepsie, Dutchess County, NY; CSX Transportation, Inc.—Discontinuance Exemption—in Poughkeepsie, Dutchess County, NY; New York Central Lines, LLC—Abandonment Exemption—in Poughkeepsie, Dutchess County, NY

On June 29, 2004, New York and Eastern Railway, LLC (NY&E), CSX Transportation, Inc. (CSXT), and New York Central Lines, LLC (NYC) (collectively, petitioners) jointly filed with the Surface Transportation Board a petition under 49 U.S.C. 10502 for exemption from the provisions of 49 U.S.C. 10903 for NY&E and CSXT to discontinue service over and for NYC to abandon an approximately 4.7-mile line of railroad between milepost QCO 0.0 and milepost QCO 3.2 and between milepost QCK 29.5 and milepost QCK 31.0, in the City and Town of Poughkeepsie, Dutchess County, NY.¹ The line traverses U.S. Postal Service ZIP Codes 12601 and 12603, and includes the station of Poughkeepsie.

¹ NY&E and CSXT lease the line from NYC.

The line does not contain federally granted rights-of-way. Any documentation in NYC's possession will be made available promptly to those requesting it.

In STB Docket No. AB-873X, NY&E proposes to discontinue service over this line, which constitutes its entire operations. When issuing discontinuance authority for railroad lines that constitute the carrier's entire system, the Board does not impose labor protection, except in specifically enumerated circumstances. See Northampton and Bath R. Co.—Abandonment, 354 I.C.C. 784, 785-86 (1978) (Northampton). Therefore, if the Board grants the petition for exemption, in the absence of a showing that one or more of the exceptions articulated in Northampton are present, no labor protective conditions would be imposed. In STB Docket No. AB-55 (Sub-No. 652X) and STB Docket No. AB-565 (Sub-No. 17X), the interests of CSXT and NYC railroad employees will be protected by the conditions set forth in Oregon Short Line R. Co.—Abandonment-Goshen, 360 I.C.C. 91 (1979).

By issuance of this notice, the Board is instituting an exemption proceeding pursuant to 49 U.S.C. 10502(b). A final decision will be issued by October 15, 2004.

Any offer of financial assistance (OFA) under 49 CFR 1152.27(b)(2) will be due no later than 10 days after service of a decision granting the petition for exemption. Each OFA must be accompanied by a $1,100 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than August 9, 2004. Each trail use request must be accompanied by a $200 filing fee. See 49 CFR 1002.2(f)(27).

All filings in response to this notice must refer to STB Docket No. AB-873X, et al. and must be sent to: (1) Surface Transportation Board, 1925 K Street, NW., Washington, DC 20423-0001; and (2) John D. Heffner, 1920 N Street, NW., Suite 800, Washington, DC 20036. Replies to the petition are due on or before August 9, 2004.

Persons seeking further information concerning abandonment and discontinuance procedures may contact the Board's Office of Public Services at (202) 565-1592 or refer to the full abandonment or discontinuance regulations at 49 CFR part 1152. Questions concerning environmental issues may be directed to the Board's Section of Environmental Analysis (SEA) at (202) 565-1539. (Assistance for the hearing impaired is available through the Federal Information Relay Service (FIRS) at 1-800-877-8339.)

An environmental assessment (EA) (or environmental impact statement (EIS), if necessary) prepared by SEA, will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on the Board's Web site at http://www.stb.dot.gov.

Decided: July 13, 2004.
By the Board, David M. Konschnik, Director, Office of Proceedings.
Vernon A. Williams,
Secretary.

[FR Doc. 04-16337 Filed 7-16-04; 8:45 am]

BILLING CODE 4915-01-P